DEPARTMENT OF THE TREASURY

Office of the Comptroller of the Currency

12 CFR Part 22

[Docket ID OCC-2020-0008]

FEDERAL RESERVE SYSTEM

12 CFR Part 208

[Docket No. OP-1720]

FEDERAL DEPOSIT INSURANCE CORPORATION

12 CFR Part 339

RIN 3064-ZA16

FARM CREDIT ADMINISTRATION

12 CFR Part 614

RIN 3052-AD42

NATIONAL CREDIT UNION ADMINISTRATION

12 CFR Part 760

RIN 3133-AF14

Loans in Areas Having Special Flood Hazards; Interagency Questions and Answers Regarding Flood Insurance; Extension of Comment Period

AGENCY: Office of the Comptroller of the Currency, Treasury (OCC); Board of Governors of the Federal Reserve System (Board); Federal Deposit Insurance Corporation (FDIC); Farm Credit Administration (FCA); National Credit Union Administration (NCUA).

ACTION: Notification and request for comment; extension of comment period.

SUMMARY: On July 6, 2020, the OCC, Board, FDIC, FCA, and NCUA (collectively, the Agencies) published in the Federal Register a notice soliciting comments on a proposal to reorganize, revise, and expand the Interagency Questions and Answers Regarding Flood Insurance (July 2020 Proposed Questions and Answers). The July 2020 Proposed Questions and Answers provided for a comment period ending on September 4, 2020. The Agencies have determined that an extension of the comment period until November 3, 2020, is appropriate. This action will allow interested parties additional time to analyze the proposal and prepare and submit comments.

DATES: The comment period for the proposed revisions to the Interagency Flood Questions and Answers, published on July 6, 2020 (85 FR 40442), is extended from September 4, 2020, to November 3, 2020.

ADDRESSES: You may submit comments by any of the methods identified in the proposal.

FOR FURTHER INFORMATION CONTACT:

OCC: Rhonda L. Daniels, Compliance Specialist, Compliance Risk Policy Division, (202) 649-5405; Heidi M. Thomas, Special Counsel, or Cyndy MacMahon, Attorney, Chief Counsel's Office, (202) 649-6350, or, for persons who are deaf or hard of hearing, TTY, (202) 649-5597.

Board: Lanette Meister, Senior Supervisory Consumer Financial Services Analyst (202) 452-2705 or Vivian W. Wong, Senior Counsel (202) 452-3667, Division of Consumer and Community Affairs; Daniel Ericson, Senior Counsel (202) 452-3359, Legal Division; for users of Telecommunications Device for the Deaf (TDD) only, contact (202) 263-4869.

FDIC: Navid Choudhury, Counsel, Policy Unit, Legal Division, (202) 898-6526; or Simin Ho, Senior Policy Analyst, Division of Depositor and Consumer Protection, (202) 898-6907.

FCA: Ira D. Marshall, Senior Policy Analyst, Office of Regulatory Policy, (703) 883-4379, TTY (703) 883-4056 or Jennifer Cohn, Senior Counsel, Office of General Counsel, (720) 213-0440.

NCUA: Sarah Chung, Senior Staff Attorney, Office of General Counsel, (703) 518-6540, or Lou Pham, Senior Credit Specialist, Office of Examination and Insurance, (703) 518-6360.

SUPPLEMENTARY INFORMATION: On July 6, 2020, the Agencies published in the Federal Register ¹ a notice soliciting comments on a proposal to reorganize, revise, and expand the Interagency Questions and Answers Regarding Flood Insurance (July 2020 Proposed Questions and Answers). The Agencies proposed new and revised guidance addressing the most frequently asked questions and answers about flood insurance to help lenders meet their responsibilities under Federal flood insurance law and to increase public understanding of these requirements.

¹ 85 FR 40442 (July 6, 2020).

The July 2020 Proposed Questions and Answers stated that the comment period would close on September 4, 2020. The Agencies received public comments requesting an extension of the comment period due to the extent of the revisions proposed by the Agencies and the COVID-19 emergency. An extension of the comment period will provide additional opportunity for the public to review and prepare comments. Therefore, the Agencies are extending the end of the comment period for the proposal from September 4, 2020, to November 3, 2020.

Blake Paulson,
Senior Deputy Comptroller and Chief Operating Officer.
Ann E. Misback,
Secretary of the Board.
Federal Deposit Insurance Corporation.
Dated at Washington, DC, on August 31, 2020.
Robert E. Feldman,
Executive Secretary.
Dated at McLean, VA, this 31st day of August 2020.
Dale Aultman,
Secretary, Farm Credit Administration Board.
Gerard Poliquin,
Secretary of the Board, National Credit Union Administration.

[FR Doc. 2020-19575 Filed 9-2-20; 8:45 am]

BILLING CODE 4810-33-P; 6210-01-P; 6714-01-P; 7535-01-P; 6705-01-P